DEPARTMENT OF HOMELAND SECURITY

[Docket No. DHS-2015-0020]

Homeland Security Advisory Council—Task Force Name Change

AGENCY: The Office of Intergovernmental Affairs, DHS.

ACTION: Notice of Homeland Security Advisory Council Employee Morale Task Force name change.

SUMMARY: The Secretary of the Department of Homeland Security (DHS), Jeh Johnson tasked his Homeland Security Advisory Council (HSAC) to establish a DHS Employee Morale Task Force on Thursday, October 9, 2014. This notice informs the public of a change in name from DHS Employee Morale Task Force to DHS Employee Task Force. The underlying tasking to the Task Force from Secretary Johnson, as published in the Federal Register, [Docket No. DHS-2014-0045], shall remain unchanged.

FOR FURTHER INFORMATION CONTACT: Erin Walls, Director, Homeland Security Advisory Council at 202-447-3135 or HSAC@DHS.gov.

SUPPLEMENTARY INFORMATION: The Homeland Security Advisory Council provides organizationally independent, strategic, timely, specific, and actionable advice and recommendations for the consideration of the Secretary of the Department of Homeland Security on matters related to homeland security. The Homeland Security Advisory Council is comprised of leaders of local law enforcement, first responders, state and local government, the private sector, and academia.

Tasking

The underlying tasking from Secretary Johnson, as published in the Federal Register, [Docket No. DHS-2014-0045], shall remain unchanged. As such, the DHS Employee Task Force (formally referred to as the DHS Employee Morale Task Force) should develop findings and recommendations in the following topic areas. The DHS Employee Task Force should address, among other closely related topics, the following questions: (1) What are the core or root causes of continued low morale in the Department of Homeland Security? (2) How can DHS strengthen its leadership cadre, in order to both enhance mission effectiveness and also increase employee morale? (3) How can DHS work as a whole, across the agency components, to recognize their distinct cultures and build a greater sense of belonging and improve employee morale? (4) Referencing the 2007 HSAC DHS Morale Assessment: which of those recommendations were successfully implemented? For those items that were not but still remain relevant, what changes should be made to increase the likelihood of successful implementation and organizational adoption?

Schedule

The DHS Employee Task Force's findings and recommendations will be submitted to the Homeland Security Advisory Council for their deliberation and vote during a public meeting. Once the report is approved it will be sent to the Secretary for his review and acceptance.

Dated: April 30, 2015.
Sarah E. Morgenthau,
Executive Director, Homeland Security Advisory Council, DHS.

[FR Doc. 2015-11505 Filed 5-12-15; 8:45 am]

BILLING CODE 9110-9M-P